FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501—3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 3, 2013. If you anticipate that you will be submitting PRA comments, but find it difficult to do so within the period of time allowed by this notice, you should advise the FCC contact listed below as soon as possible.

ADDRESSES: Submit your PRA questions to Judith B. Herman, Federal Communications Commission. To submit your PRA comments by email send them to: PRA@fcc.gov.

FOR FURTHER INFORMATION CONTACT: Judith B. Herman, Office of Managing Director, (202) 418-0214.

SUPPLEMENTARY INFORMATION: OMB Control Number: 3060-0806.

Title: Universal Service—Schools and Libraries Universal Service Program, FCC Forms 470 and 471.

Form Numbers: FCC Forms 470 and 471.

Type of Review: Revision of a currently approved collection.

Respondents: Business or other for-profit entities, not-for-profit institutions and state, local or tribal government.

Number of Respondents: 82,000 respondents; 82,000 responses.

Estimated Time per Response: Three hours to complete FCC Form 470 and four hours to complete FCC Form 471. Additionally, one-half hour (.5 hours) for each form for the five year recordkeeping requirement.

Frequency of Response: On occasion and annual reporting requirements, recordkeeping requirement and third party disclosure requirement.

Obligation to Respond: Required to obtain or retain benefits. Statutory authority for this information collection is contained in 47 U.S.C. 151-154, 201-205, 218-220, 254, 303(r), 403 and 405 of the Communications Act of 1934, as amended.

Total Annual Burden: 334,000 hours.

Total Annual Cost: N/A.

Privacy Impact Assessment: N/A.

Nature and Extent of Confidentiality: The Commission is not requesting that respondents submit confidential information to the Commission. If the applicant requests confidential treatment of their information, they may request confidential treatment under 47 CFR 0.459 of the Commission's rules.

Needs and Uses: The Commission will submit this information collection after this comment period to obtain the full, three year clearance from the Office of Management and Budget (OMB). The Commission is requesting OMB approval for a revision to this information collection.

This submission proposes revisions to the FCC Form 470 and instructions and FCC Form 471 and instructions. The Commission is revising this collection in an effort to simplify the application process and to better collect information related to the broadband services being ordered by schools and libraries under the E-rate program. We propose collapsing the telecommunications services and Internet access categories into one category of service on the FCC Form 470 to simplify the application process. We also propose eliminating outdated questions that were originally designed to determine the impact of services and create new questions that will better gauge the technology and speed related to E-rate applicants' Internet and broadband connectivity. Specifically, Block 2 of the FCC Form 471, Impact of Service Ordered for Schools and Libraries from this Form 471, will be eliminated and questions asking about broadband and other connectivity services will be added to Block 5 for each funding request. The FCC Form 471 is also revised to allow applicants to indicate whether they are a federal entity. Further, in the Commission's attempt to reduce the number of active information collections, the Commission will incorporate the information collection requirements in OMB Control No. 3060-0774 into to this collection so it can be removed from the OMB inventory.

The Commission requests a total hourly burden change for FCC Forms 470 and 471 from 325,000 burden hours to 334,000 burden hours, which is an increase of 9,000 burden hours. The adjustment reflects updated information received from the Universal Service Administrative Company, the administrator of the schools and libraries universal service support program, and is based on actual participation in the program. Specifically, for the FCC Form 470, the Commission estimates that the number of respondents has remained the same at 35,000 based on the number of forms submitted for funding years 2012 and 2013 reported by USAC. For the FCC Form 471, the Commission estimates that the number of respondents has increased from 45,000 to 47,000 based on the increased number of submitted FCC Forms 471 in funding years 2012 and 2013 as reported by USAC.

The two FCC forms serve the functions of the Universal Service Schools and Libraries Support Mechanism, 47 U.S.C. 254 of the Communications Act of 1934, as amended. They are used at the point where services provided to the program are implemented, or are about to be implemented, and are a necessary prerequisite to the distribution of payments under the program.

Applicants in the E-rate program must submit an FCC Form 470 with a description of the services needed to USAC, which administers the fund. The information from the FCC Form 470 is then posted on USAC's Web site for all potential competing service providers to review. After waiting 28 days, the applicant can enter into an agreement for services. See 47 CFR 54.504(b). Applicants and consultants completing the FCC Form 470 must provide basic information on the form, including contact information and demographic information to assist in the processing of the application.

The FCC Form 471 must be filed each year by all E-rate applicants. Once a school or library has complied with the Commission's competitive bidding requirements and entered into an agreement for eligible services, it must file an FCC Form 471 application to notify USAC of the services that have been ordered, the service providers with whom the applicant has entered into an agreement, and an estimate of the funds needed to cover the discounts to be given for eligible services. See 47 CFR 54.504(c). Applicants must now provide their FCC Registration Number. See 47 CFR 1.8002 and 1.8003.

Besides basic information about the applicant or consultant filling out the form, the form gathers information about the broadband services that the school or library is currently using to help USAC determine the technological needs of the E-rate program. Since economically disadvantaged schools and rural schools receive a greater share of E-rate program funding, the form also contains a discount calculation worksheet for certifying the percentage of students eligible in that school for the national school lunch program (or other acceptable indicators of economic disadvantage determined by the Commission). See 47 CFR 54.505(b)(1). Similarly, libraries must make certifications about students eligible for national school lunch programs in nearby areas. See 47 CFR 54.505(b)(2). Since rural schools and libraries receive slightly more funding than urban participants, the FCC Form 471 requires applicant's demographic location. See 47 CFR 54.505(b)(3).

All of the requirements contained in this information collection are necessary to implement the congressional mandates regarding No Child Left Behind as well as the schools and libraries universal service support program process.

Federal Communications Commission.
Gloria J. Miles,
Federal Register Liaison, Office of the Secretary, Office of Managing Director.

[FR Doc. 2013-16143 Filed 7-3-13; 8:45 am]

BILLING CODE 6712-01-P